OVERSEAS PRIVATE INVESTMENT CORPORATION

March 21, 2008, Board of Directors Meeting

Time and Date: Friday, March 21, 2008, 10 a.m. (Closed Portion).

Place: Offices of the Corporation, Twelfth Floor Board Room, 1100 New York Avenue, NW., Washington, DC.

Status: Closed session will commence at 10 a.m. (approx.)

Matters To Be Considered: (Closed to the Public 10 a.m.)

1. Finance Project—West Bank.

FOR FURTHER INFORMATION CONTACT: Information on the meeting may be obtained from Connie M. Downs at (202) 336-8438.

Dated: February 29, 2008.
Connie M. Downs,
Corporate Secretary, Overseas Private Investment Corporation.

[FR Doc. 08-950 Filed 2-29-08; 11:44 am]

BILLING CODE 3210-01-M